DEPARTMENT OF THE INTERIOR

National Park Service

Notice of Inventory Completion for Human Remains in the Possession of the Bernice Pauahi Bishop Museum, Honolulu, HI; Correction

AGENCY: National Park Service, Interior.

ACTION: Notice; correction.

Notice is here given in accordance with the Native American Graves Protection and Repatriation Act (NAGPRA), 25 U.S.C. 3003, of the completion of an inventory of human remains in the possession and control of the Bishop Museum, Honolulu, HI. The human remains were removed from Lanai Island, HI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the Native Hawaiian Organizations to whom the human remains will be repatriated.

In the Federal Register of October 10, 2002 (FR Doc 02-25871, pages 63151-63152), paragraph numbers 6 and 7 are corrected by substituting the following paragraphs:

Officials of the Bishop Museum have determined that, pursuant to 25 U.S.C. 3001 (9-10), the human remains described above represent the physical remains of two individuals of Native Hawaiian ancestry. Officials of the Bishop Museum also have determined that, pursuant to 25 U.S.C. 3001 (2), there is a relationship of shared group identity that can be reasonably traced between the Native Hawaiian human remains and Hui Kako`o and Hui Malama I Na Kupuna O Hawaii Nei. Lastly, officials of the Bishop Museum have determined that Hui Kako`o is the most appropriate claimant for repatriation of the human remains.

Representatives of any other Native Hawaiian Organization that believes itself to be culturally affiliated with the human remains should contact Betty Lou Kam, Vice President, Cultural Studies, Bishop Museum, 1525 Bernice Street, Honolulu, HI 96817, telephone (808) 848-4144, before June 30, 2008. Repatriation to Hui Kako`o will proceed after that date if no additional claimants come forward.

The Bishop Museum is responsible for notifying Hui Kako`o, Lana`i Island Burial Council, Hui Malama I Na Kupuna O Hawaii Nei, and Office of Hawaiian Affairs.

Dated: April 23, 2008
Sherry Hutt,
Manager, National NAGPRA Program.

[FR Doc. E8-12003 Filed 5-28-08; 8:45 am]

BILLING CODE 4312-50-S